DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 28, 2004.

Interested persons are invited to submit written comments regarding the subject matter of the investigations to the Director, Division of Trade Adjustment Assistance, at the address shown below, not later than June 28, 2004.

The petitions filed in this case are available for inspection at the Office of the Director, Division of Trade Adjustment Assistance, Employment and Training Administration, U.S. Department of Labor, Room C-5311, 200 Constitution Avenue, NW., Washington, DC 20210.

Signed at Washington, DC, this 9th day of June, 2004.
Timothy Sullivan,
Director, Division of Trade Adjustment Assistance.

Appendix
[Petitions instituted between 05/17/2004 and 05/28/2004]
TA-W | Subject firm (petitioners) | Location | Date of institution | Date of petition
54,914 | Medtronic Vascular (Comp) | Danvers, MA | 05/17/2004 | 05/06/2004
54,915 | Valenite, LLC (Wkrs) | Gainesville, TX | 05/17/2004 | 05/17/2004
54,916 | Accurate Mold and Plastics Corp. (MO) | Nixa, MO | 05/17/2004 | 05/11/2004
54,917 | Circuit-Wise (Comp) | North Haven, CT | 05/17/2004 | 05/14/2004
54,918 | Invensys Appliance Controls (Wkrs) | N. Manchester, IN | 05/17/2004 | 05/14/2004
54,919 | Daimler Chrysler (Wkrs) | Detroit, MI | 05/17/2004 | 05/14/2004
54,920 | Dekko Technologies (Wkrs) | Claypool, IN | 05/18/2004 | 05/17/2004
54,921 | Burlington Industries (Comp) | Hurt, VA | 05/18/2004 | 04/24/2004
54,922 | E-Z-GO (Comp) | Augusta, GA | 05/18/2004 | 05/17/2004
54,923 | Teleplan (Wkrs) | Austin, TX | 05/18/2004 | 05/12/2004
54,924 | Northlands Orthopaedic (Comp) | Clifton, NJ | 05/18/2004 | 05/07/2004
54,925 | EGS Electrical Group (Comp) | Shoemakersville, PA | 05/18/2004 | 05/10/2003
54,926 | Bes-Tex Fabrics (Comp) | New York City, NY | 05/18/2004 | 05/17/2004
54,927 | Hayes Lammerz International (UAW) | Howell, MI | 05/18/2004 | 05/17/2004
54,928 | CNH America LLC (UAW) | Racine, WI | 05/18/2004 | 05/17/2004
54,929 | Toko America, Inc. (NPS) | Huntsville, AL | 05/18/2004 | 05/17/2004
54,930 | Yukon Manufacturing (Wkrs) | Litchfield, MI | 05/18/2004 | 05/11/2004
54,931 | Dana Corporation (Wkrs) | Andrews, IN | 05/18/2004 | 05/12/2004
54,932 | United Plastics Group (IL) | Bensenville, IL | 05/19/2004 | 05/13/2004
54,933 | Menasha Forest Products Corp. (State) | North Bend, OR | 05/19/2004 | 05/12/2004
54,934 | Rosenburg Forest Products (State) | Coquille, OR | 05/19/2004 | 05/12/2004
54,935 | Bush Industries (Wkrs) | Erie, PA | 05/19/2004 | 05/14/2004
54,936 | Deuer Manufacturing (Comp) | Dayton, OH | 05/19/2004 | 05/10/2004
54,937 | Quebecor (Wkrs) | Depew, NY | 05/19/2004 | 05/11/2004
54,938 | Sunrise Medical (Comp) | Stevens Point, WI | 05/19/2004 | 05/18/2004
54,939 | TI Group Automotive Systems, LLC (Comp) | Greeneville, TN | 05/20/2004 | 05/19/2004
54,940 | J.R. Simplot Co. (Comp) | Hermiston, OR | 05/20/2004 | 04/27/2004
54,941 | Vitro America d/b/a ACI Distribution (Wkrs) | Tualatin, OR | 05/20/2004 | 05/18/2004
54,942 | Hawk Motors (Comp) | Alton, IL | 05/20/2004 | 05/11/2004
54,943 | Swainsboro Electro Plating (Wkrs) | Swainsboro, GA | 05/20/2004 | 05/12/2004
54,944 | Norwood Promotional Products (Comp) | New London, WI | 05/20/2004 | 05/18/2004
54,945 | Amcor Plastube (Comp) | Breinigsville, PA | 05/20/2004 | 05/17/2004
54,946 | Teleplan Norcross (Comp) | Norcross, GA | 05/20/2004 | 05/18/2004
54,947 | Hewlett Packard (Wkrs) | Colorado Spgs., CO | 05/20/2004 | 05/14/2004
54,948 | RHV Ind. dba Shape Global Technology (Comp) | Sanford, ME | 05/20/2004 | 05/17/2004
54,949 | Wakeman Oil Company (NPC) | Wakeman, OH | 05/20/2004 | 05/18/2004
54,950 | Continental Retail Service, LLC (Comp) | Bellbrook, OH | 05/20/2004 | 05/05/2004
54,951 | Lampcrafters, Inc. (Comp) | Lexington, NC | 05/20/2004 | 05/19/2004
54,952 | VF Intimates, LP (UNITE) | Johnstown, PA | 05/20/2004 | 05/18/2004
54,953 | Ruhrpumpen, Inc. (Comp) | Tulsa, OK | 05/20/2004 | 05/14/2004
54,954 | Ciprico (MN) | Plymouth, MN | 05/21/2004 | 05/20/2004
54,955 | Phoenix Lace Cutting (NJ) | North Bergen, NJ | 05/21/2004 | 05/21/2004
54,956A | Monarch Hosiery Mills (Comp) | Burlington, NC | 05/21/2004 | 05/20/2004
54,956B | Monarch Hosiery Mills (Comp) | Burlington, NC | 05/21/2004 | 05/20/2004
54,956C | Monarch Hosiery Mills (Comp) | Burlington, NC | 05/21/2004 | 05/20/2004
54,956 | Monarch Hosiery Mills (Comp) | Altamahaw, NC | 05/21/2004 | 05/20/2004
54,957 | Union Carbide Corp. (Wkrs) | S. Charleston, WV | 05/21/2004 | 05/20/2004
54,958 | U.S. Electrical Motors (Comp) | Philadelphia, MS | 05/21/2004 | 05/21/2004
54,959 | AT and T (Wkrs) | Piscataway, NJ | 05/21/2004 | 05/14/2004
54,960 | MGS Holding Corp. (Comp) | Woonsocket, RI | 05/21/2004 | 05/20/2004
54,961 | TDS Automotive (UAW) | Oxford, MI | 05/21/2004 | 05/19/2004
54,962 | Trilux Technologies, Inc. (Comp) | Winston-Salem, NC | 05/24/2004 | 05/24/2004
54,963 | Snow River Products (Wkrs) | Crandon, WI | 05/24/2004 | 05/24/2004
54,964 | Pope Corporation (Wkrs) | Taylor, MI | 05/24/2004 | 05/21/2004
54,965 | Flextronics International (NH) | Portsmouth, NH | 05/24/2004 | 05/21/2004
54,966 | Campbell Colors, Inc. (SC) | Greenville, SC | 05/24/2004 | 05/17/2004
54,967 | American Greetings Corp. (Comp) | Bardstown, KY | 05/24/2004 | 05/24/2004
54,968 | Johnson Controls (Wkrs) | Milwaukee, WI | 05/24/2004 | 05/19/2004
54,969 | Brown and Williamson Tobacco Corp. (Comp) | Chester, VA | 05/24/2004 | 05/20/2004
54,970 | Lifescan (Comp) | Milpitas, CA | 05/24/2004 | 05/20/2004
54,971 | Honeywell International, Inc. (Comp) | Acton, MA | 05/24/2004 | 05/21/2004
54,972 | CBCA (Wkrs) | Fort Worth, TX | 05/25/2004 | 05/05/2004
54,973 | Hubbell Electrical Products (MO) | Louisiana, MO | 05/25/2004 | 05/03/2004
54,974 | Tarkett, Inc. (Wkrs) | Whitehall, PA | 05/25/2004 | 05/19/2004
54,975 | Bake-Line Group (Wkrs) | Marietta, OK | 05/25/2004 | 05/14/2004
54,976 | Unisys Corporation (Wkrs) | Malvern, PA | 05/25/2004 | 05/17/2004
54,977 | Custom Tool and Manufacturing Co. (Wkrs) | Lawrenceburg, KY | 05/25/2004 | 05/24/2004
54,978 | WestPoint Stevens (Comp) | Valley, AL | 05/25/2004 | 05/24/2004
54,979 | American Express (Wkrs) | Phoenix, AZ | 05/26/2004 | 05/15/2004
54,980 | Eljer Plumbingware (Comp) | Salem, OH | 05/26/2004 | 05/25/2004
54,981 | Elkhart Foundry and Machine Co., Inc. (Comp) | Elkhart, IN | 05/26/2004 | 05/25/2004
54,982 | Hampton Lumber Mills, Inc. (Wkrs) | Grand Ronde, OR | 05/26/2004 | 05/20/2004
54,983 | PLM Garment Cutting Service (TX) | Desoto, TX | 05/26/2004 | 05/20/2004
54,984 | C and D Technologies, Inc. (Comp) | Leola, PA | 05/26/2004 | 05/25/2004
54,985 | Tyco Safety Products (MA) | Westminster, MA | 05/26/2004 | 05/13/2004
54,986 | Matsushita Electronic Components Corp. (Comp) | Knoxville, TN | 05/26/2004 | 05/25/2004
54,987 | Remington Products (CT) | Bridgeport, CT | 05/27/2004 | 05/26/2004
54,988 | Doveport Systems LLC (Comp) | Port Huron, MI | 05/27/2004 | 05/25/2004
54,989 | Paradise Datacom LLC (Comp) | Boalsburg, PA | 05/27/2004 | 05/27/2004
54,990 | Manpower International (Comp) | Asheville, NC | 05/27/2004 | 05/21/2004
54,991 | Marley Cooling Technologies (IAM) | Olathe, KS | 05/27/2004 | 05/26/2004
54,992 | Nerve Wire, Inc. (MA) | Newton, MA | 05/27/2004 | 05/26/2004
54,993 | Trinity Biotech Distribution (Wkrs) | Allentown, PA | 05/27/2004 | 05/26/2004
54,994 | Narroflex (Wkrs) | Stuart, VA | 05/27/2004 | 05/11/2004
54,995 | Herff Jones (NCFO) | Indianapolis, IN | 05/28/2004 | 05/13/2004
54,996 | Minnesota Mold and Engineering (MN) | Vadnais Hgts., MN | 05/28/2004 | 05/27/2004
54,997 | G and K Services (Comp) | Laurel, MS | 05/28/2004 | 05/21/2004
54,998 | GretagMacbeth LLC (Comp) | New Windsor, NY | 05/28/2004 | 05/27/2004
54,999 | Markey (IAM) | Seattle, WA | 05/28/2004 | 05/27/2004

[FR Doc. 04-13595 Filed 6-10-04; 8:45 am]

BILLING CODE 4510-30-M